DEPARTMENT OF JUSTICE

Office of the Attorney General

28 CFR Part 0

[A.G. Order No. 2735-2004]

Technical Revision of Regulation Delegating Waiver Authority for Claims Involving Employee Overpayment Debt

AGENCY: Department of Justice.

ACTION: Final rule.

SUMMARY: This rule makes technical changes to the Department of Justice organizational regulations to delete unnecessary and obsolete references to legal authorities.

DATES: This rule is effective September 27, 2004.

FOR FURTHER INFORMATION CONTACT: Stuart Frisch, General Counsel, or Morton J. Posner, Attorney-Advisor, Justice Management Division, U.S. Department of Justice, 1331 Pennsylvania Avenue, NW., Suite 520 North, Washington, DC 20530; Telephone: (202) 514-3452; fax: (202) 514-4317.

SUPPLEMENTARY INFORMATION: This rule makes two technical changes to the Department of Justice's regulation concerning waiver of claims for erroneous payments of pay and allowances to its employees. The regulation to be modified currently delegates waiver authority under 5 U.S.C. 5584, “as amended by Public Law 92-453.” Section 5584 has been amended several times since. The reference to Public Law 92-453 is outdated and is deleted. In addition, the current regulation directs application of “standards prescribed by the Comptroller General” for the waiver of claims. These standards are now obsolete and are therefore deleted.

Administrative Procedure Act

This rule relates to a matter of agency management or personnel and, therefore, is exempt from the usual requirements of prior notice and comment and a 30-day delay in effective date. See 5 U.S.C. 553(a)(2).

Regulatory Flexibility Act

The Attorney General, in accordance with the Regulatory Flexibility Act, 5 U.S.C. 605(b), has reviewed this rule and, by approving it, certifies that it will not have a significant economic impact on a substantial number of small entities because it pertains to personnel and administrative matters affecting the Department. Further, a Regulatory Flexibility Analysis was not required to be prepared for this final rule because the Department was not required to publish a general notice of proposed rulemaking for this matter.

Executive Order 12866

This rule has been drafted and reviewed in accordance with Executive Order 12866, Regulatory Planning and Review, section 1(b), Principles of Regulation. This rule is limited to agency organization, management, and personnel as described by Executive Order 12866 section (3)(d)(3) and, therefore, is not a “regulation” or “rule” as defined by that Executive Order. Accordingly, this rule has not been reviewed by the Office of Management and Budget.

Executive Order 13132

This rule will not have substantial direct effects on the States, on the relationship between the national government and the States, or on the distribution of power and responsibilities among the various levels of government. Therefore, in accordance with Executive Order 13132, Federalism, the Department has determined that this rule does not have sufficient federalism implications to warrant the preparation of a federalism summary impact statement.

Executive Order 12988

This rule meets the applicable standards set forth in sections 3(a) and 3(b)(2) of Executive Order 12988, Civil Justice Reform.

Unfunded Mandates Reform Act of 1995

This rule will not result in the expenditure by State, local, and tribal governments, in the aggregate, or by the private sector, of $100 million or more in any one year, and it will not significantly or uniquely affect small governments. Therefore, no actions were deemed necessary under the provisions of the Unfunded Mandates Reform Act of 1995, 2 U.S.C. 1501 et seq.

Small Business Regulatory Enforcement Fairness Act of 1996

This rule is not a major rule as defined by section 251 of the Small Business Regulatory Enforcement Fairness Act of 1996, 5 U.S.C. 804. This rule will not result in an annual effect on the economy of $100 million or more; a major increase in costs or prices; or significant adverse effects on competition, employment, investment, productivity, innovation, or the ability of United States-based enterprises to compete with foreign-based enterprises in domestic and export markets.

This action pertains to agency management, personnel, and organization and does not substantially affect the rights or obligations of non-agency parties. Accordingly, it is not a “rule” for purposes of the reporting requirement of 5 U.S.C. 801.

Congressional Review Act

The Department has determined that this action pertains to agency management or personnel and, accordingly, is not a “rule” as that term is used by the Congressional Review Act (Subtitle E of the Small Business Regulatory Enforcement Fairness Act of 1996). Therefore, the reporting requirement of 5 U.S.C. 801 does not apply.

List of Subjects in 28 CFR Part 0

Authority delegations (government agencies), Government employees, Organization and functions (government agencies).

Accordingly, by virtue of the authority vested in me as Attorney General, including 5 U.S.C. 301 and 5584, and 28 U.S.C. 509 and 510, Subpart X of Part 0, Title 28 of the Code of Federal Regulations is amended as follows:

PART 0—ORGANIZATION OF THE DEPARTMENT OF JUSTICE

1. The authority for part 0 continues to read as follows:

Authority: 5 U.S.C. 301; 28 U.S.C. 509, 510, 515-519.

§ 0.155 [Amended]

2. In § 0.155, delete the phrase “, as amended by Public Law 92-453,” and delete the phrase “in accordance with the standards prescribed by the Comptroller General in 4 CFR parts 91 through 93”.

Dated: September 21, 2004.
John Ashcroft,
Attorney General.

[FR Doc. 04-21604 Filed 9-24-04; 8:45 am]

BILLING CODE 4410-CS-P